DEPARTMENT OF HEALTH AND HUMAN SERVICES

Centers for Disease Control and Prevention

Capacity Building Assistance To Improve the Delivery and Effectiveness of Human Immunodeficiency Virus (HIV) Prevention Interventions for High-Risk Racial/Ethnic Minority Subpopulations

Announcement Type: New.

Funding Opportunity Number: RFA 05051.

Catalog of Federal Domestic Assistance Number: 93.939.

Application Deadline: May 27, 2005.

I. Funding Opportunity Description

Authority: This program is authorized under Sections 301(a) and 317(k)(2) of the Public Health Service Act, 42 U.S.C. Sections 241 and 247b(k)(2).

Purpose: The purpose of this announcement is to provide financial assistance to non-governmental HIV prevention organizations to provide capacity building assistance (CBA), including training and technical assistance (TA), to adapt, tailor and implement science-based, behavioral HIV prevention interventions specifically targeting high-risk racial/ethnic minority subpopulations as demonstrated by high-prevalence epidemiological evidence and other concrete quantitative and qualitative data. The minority subpopulations are migrant workers, transgender individuals, and youth in non-school settings, including lesbian/gay/bisexual/transgender and questioning (LGBTQ) youth.

The term “capacity building assistance” or “CBA” means the provision of information, TA, training, and technology transfer for individuals and organizations to improve the delivery and effectiveness of HIV prevention services. CBA does not include the delivery of direct client HIV prevention services and interventions.

CBA provided must be consistent with the Centers for Disease Control and Prevention's (CDC's) Advancing HIV Prevention Initiative (AHP), Replicating Effective Programs (REP), Diffusion of Effective Behavioral Interventions (DEBI), the Compendium of Effective Behavioral Interventions, and other CDC-supported strategies for specific high-risk racial/ethnic minority subpopulations.

As effective interventions and adaptation and tailoring guidance are developed, future funding cycles will integrate the new science.

For migrant workers, the interventions and public health strategies should be consistent with CDC-supported strategies for specific high-risk racial/ethnic minority subpopulations. Examples include the community health outreach worker (CHOW) model (also referred to as Promotores/as, lay health advisors, community health advisor networks or peer educators), Real AIDS Prevention Project (RAPP), other interventions from REP and DEBI which are appropriate for migrant worker populations.

For youth in non-school settings, a number of evidence-based, scientifically tested behavioral interventions have been identified specifically for high-risk youth, including Street Smart (for homeless and runaway teens); Teens Linked to Care (TLC) (for HIV-positive persons ages 13-24); and Focus on Kids (for out-of-school African-American teens in poverty settings) [Stanton et al., (1996) Archives of Pediatrics and Adolescent Medicine, 150 (4), 363-372]. All of the interventions for youth supported by CDC contain abstinence education, and comply with the ABC Approach to HIV Prevention—Information on HIV prevention methods (or strategies) can include abstinence, monogamy (i.e., being faithful to a single sexual partner), or using condoms consistently and correctly. These approaches can avoid risk (abstinence) or effectively reduce risk for HIV (monogamy, consistent and correct condom use).

Note: For this program announcement, youth are defined as individuals between the ages of 13 to 24 years who are at high risk for HIV infection. Interventions for youth at high risk are limited to out-of-school youth in non-school settings. CBA providers are expected to remind youth-focused community-based organizations (CBO) that they should be familiar with and adhere to their own state's rules and regulations related to providing HIV prevention information to youth (e.g., the age requirement for access to services with or without parental consent).

Science-based behavioral HIV prevention interventions listed in the Procedural Guidance for Selected Interventions and Strategies for Community-Based Organizations, REP and DEBI include: Recruitment and retention; counseling, testing and referral (CTR); prevention case management (PCM); and partner counseling, testing and referral services (PCTRS).

For information on the Procedural Guidance for Selected Interventions and Strategies for Community-Based Organizations mentioned above, visit the following Internet address: http://www.cdc.gov/hiv/partners/pa04064_cbo.htm.

For information on the Compendium of Effective Behavioral Interventions, visit the following Internet address: http://www.cdc.gov/hiv/pubs/hivcompendium/HIVcompendium.htm

The term “adapt” refers to changes in the target population or venue in which an intervention takes place. The term “tailor” refers to changes in: (1) The health message or activity; (2) the way the message is delivered or by whom; and (3) the timing of the message. TA is training to adapt, tailor and evaluate science-based behavioral HIV prevention interventions for the specific racial/ethnic/cultural high-risk minority subpopulations of migrant workers, transgender individuals, or youth in non-school settings, including LGBTQ youth.

Adaptation and tailoring of DEBI products and public health strategies for specific high-risk racial/ethnic minority subpopulations of migrant workers, transgender individuals, or youth in non-school settings, including LGBTQ youth, must be culturally and linguistically appropriate. Fidelity of all interventions and public health strategies must be maintained by adhering to their specific core elements. This includes adapting and tailoring all training curricula and written materials on each intervention selected, development of a national marketing and diffusion plan for the adapted and tailored interventions, and the provision of CBA to implement adapted and tailored interventions.

This program addresses the “Healthy People 2010” focus area of HIV. This program also addresses the goals stated in CDC's HIV Prevention Strategic Plan through 2005, which can be found at http://www.cdc.gov/hiv/partners/psp.htm; and Advancing HIV Prevention: New Strategies for a Changing Epidemic at http://www.cdc.gov/hiv/partners/ahp.htm.

Measurable outcomes of the program will be in alignment with one (or more) of the following performance goals for the National Center for HIV, STD and TB Prevention (NCHSTP):

1. Decrease the number of persons at high risk for acquiring or transmitting HIV infection.

2. By 2010, increase by 13 percent the proportion of HIV-infected people who know they are infected, as measured by the proportion diagnosed before progression to AIDS (Baseline: 76 percent in 2000; Target for 2010: 85 percent).

3. By 2010, increase to at least 80 percent the proportion of HIV-infected people who are linked to appropriate prevention, care, and treatment services, as measured by those who report having received some form of medical care within three months of their HIV diagnosis (2001 Baseline: 79 percent).

4. Strengthen the capacity to develop and implement effective HIV prevention interventions.

CBA developed under this program will be categorized as Strengthening Interventions for HIV Prevention (designated as Focus Area [FA] 2) in the CBA model, as referenced in Attachment I.

Program Goals: The goal for this program is to strengthen interventions for HIV prevention by improving the capacity of CBOs and health departments to implement, improve, and evaluate HIV prevention interventions specifically targeting high-risk racial/ethnic minority subpopulations. The minority subpopulations are migrant workers, transgender individuals, and youth in non-school settings, including lesbian/gay/bisexual/transgender and questioning (LGBTQ) youth.

This announcement is only for non-research activities supported by CDC. If research is proposed, the application will not be reviewed. For the definition of research, please see the CDC website at the following Internet address: http://www.cdc.gov.od/ads/opspoll1.htm.

Activities: Awardee activities for this program are as follows: All applicants are required to implement awardee activities by developing process objectives and activities for the following:

1. Provide ongoing individualized CBA to CDC's directly funded CBOs, health departments, and health department-funded CBOs in the adaptation, implementation, quality assurance, and evaluation of effective science-based behavioral HIV prevention interventions for high-risk, racial/ethnic minority subpopulations of migrant workers, transgender individuals, or youth in non-school settings, including LGBTQ youth. CBA providers will utilize CDC's draft adaptation guidance to: (a) Conduct assessments of needs and community resources; (b) identify and address gaps in CBA services; (c) collaborate with other sources of CBA (including other CDC CBA providers and CBOs specifically receiving CDC's Program Announcement 04064 ADAPT supplemental for adapting and tailoring DEBI interventions); (d) notify, collaborate and coordinate with state and local health departments in the delivery of CBA services within their health jurisdictions; and (e) leverage other federal, state or local resources.

Examples of prevention interventions are health education and risk reduction; outreach capacity and preparation for testing; HIV testing; referrals; prevention and partner counseling; prevention case management; interventions to prevent perinatal transmission; and rapid testing in non-traditional settings, such as correctional facilities and high-risk community venues.

2. Provide CBA to health departments and their funded CBOs on culturally appropriate HIV prevention interventions and strategies for high-risk racial/ethnic minority subpopulations of migrant workers, transgender individuals, or youth in non-school settings, including LGBTQ youth. This includes: (a) Obtaining and utilizing input from high-risk, racial/ethnic minority subpopulations of migrant workers, transgender individuals, or youth in non-school settings, including LGBTQ youth proposed for this project; and (b) incorporating cultural competency and linguistic and educational appropriateness into all CBA activities.

CBA for HIV prevention may include methods for practicing abstinence, monogamy (i.e., being faithful to a single sexual partner), or safer sex (i.e., using condoms consistently and correctly). These approaches can avoid risk or effectively reduce risk for HIV infection.

Prevention interventions should also include risk reduction and avoidance for co-infections with other sexually transmitted diseases, blood-borne diseases (i.e., Hepatitis B and C), and tuberculosis.

3. Work with CDC program consultants and Science Application Team technical monitors, who are responsible for ensuring fidelity, consistency, and support for the delivery of evidence-based HIV prevention interventions and strategies. With their help, develop collaborative partnerships with the originators of the supported science-based interventions, other social and behavioral scientists, and public health experts to adapt and tailor a minimum of two (2) science-based behavioral interventions for high-risk, racial/ethnic minority subpopulations of migrant workers, transgender individuals, or youth in non-school settings, including LGBTQ youth. These partners will be responsible for reviewing all materials produced to ensure fidelity to the original intervention and for collaborating on the delivery of CBA. This includes: (a) Development of adaptation and tailoring materials based on CDC's draft adaptation guidance on each intervention; (b) provision of CBA, including training and TA, on adapting and tailoring science-based behavioral HIV prevention interventions; and (c) development of a national marketing and diffusion plan for the interventions in the CDC's Procedural Guidance and other CDC-supported strategies for specific high-risk, racial/ethnic minority subpopulations. Note: Specifically for DEBI interventions, all materials related to the adaptation and tailoring of the interventions will need to be reviewed by CDC program consultants, Science Application Team technical monitors, and original investigators, as appropriate.

4. Collaborate with CDC, CDC-funded CBA and TA providers, and locally based partners and contractors to plan and deliver CBA that is consistent with the requirements of the DEBI interventions and CDC program requirements (as provided in trainings for grantees) and avoids duplication of services. This includes developing training materials, diffusing best program practices and interventions for HIV-negative and HIV-positive persons, and supporting partners with orientation and training to help them deliver effective and efficient services. Note: To achieve cost-effectiveness, other partners and experts contracted by CBA providers should be locally based and culturally competent.

5. Core Performance Indicators. To ensure quality programs and to measure progress, all applicants receiving funding are required to report on the following core performance indicators:

(a) Number of CDC-funded CBOs that serve high-risk, racial/ethnic minority subpopulations of migrant workers, transgender individuals, or youth in non-school settings, including LGBTQ youth, receiving CBA on adapted and tailored science-based behavioral prevention interventions and public health strategies that increase behaviors that reduce risk for transmission or acquisition of HIV.

(b) Number of health department-funded CBOs that serve high-risk, racial/ethnic minority subpopulations of migrant workers, transgender individuals, or youth in non-school settings, including LGBTQ youth, receiving CBA on adapted and tailored science-based behavioral prevention interventions and public health strategies that increase behaviors that reduce risk for transmission or acquisition of HIV.

(c) Number of CDC-funded CBOs that report agreement with timeliness in completion of CBA services.

(d) Number of health department-funded CBOs that report agreement with timeliness in completion of CBA services.

(e) Number of CDC-funded CBOs that receive CBA and, in turn, deliver adapted and tailored interventions and/or public health strategies to high-risk, racial/ethnic minority subpopulations of migrant workers, transgender individuals, or youth in non-school settings, including LGBTQ youth.

(f) Number of health department-funded CBOs that receive CBA and, in turn, deliver adapted and tailored interventions and/or public health strategies to high-risk, racial/ethnic minority subpopulations of migrant workers, transgender individuals, or youth in non-school settings, including LGBTQ youth.

(g) Number of CDC-funded CBOs, health department-funded CBOs, and other stakeholders serving high-risk, racial/ethnic minority subpopulations of migrant workers, transgender individuals, or youth in non-school settings, including LGBTQ youth, receiving CBA on implementing realistic and feasible evaluation efforts of adapted and tailored science-based behavioral prevention interventions.

Applicants will be responsible for the following in response to the performance indicators:

(1) Set baseline, one-year, and four-year target goals (target goals will be negotiated with CDC post-award).

(2) Use performance indicators for the design of a monitoring evaluation plan.

(3) Collect process and outcome monitoring data and report to the CDC.

Applicants, with the substantial involvement of CDC, will be accountable for achieving performance target goals. If an applicant fails to achieve its target, CDC will work with the applicant to determine what steps can be taken to improve performance. CDC involvement may include TA, conditional or restrictive funding. If applicant's performance fails to improve, CDC in accordance with applicable federal regulations may take enforcement actions such as, suspension or termination of the Notice of Award (NoA).

6. Implement an evaluation-monitoring plan based on logic modeling that links outcomes (both short- and long-term) with program activities/processes and the theoretical assumptions/principles of the program performance indicators.

The plan should outline the process and outcome data to be collected, identify sources of information, explain the methods by which information will be collected, and outline the process for analyzing and interpreting information, and using findings for program improvement.

7. Identify the CBA training needs of your own program and staff. Develop and implement a plan to address these needs.

8. Develop protocols that respond to new CBA requests, including submission of notification and completion of forms. Refer all CBA requests outside your scope of work to the CDC CBA coordinator responsible for tracking and assigning CBA requests, following procedures to be provided by CDC.

9. Participate in CDC-coordinated CBA networks to enhance communication, coordination, cooperation, and training.

10. Implement a quality assurance strategy that ensures the delivery of high-quality services.

11. Develop and implement an effective strategy for marketing your CBA services.

12. Report planned group CBA events to the Capacity Building Branch (CBB) Training Calendar, as provided by CDC, for dissemination to HIV prevention partners and constituents.

13. Facilitate the dissemination of information about successful CBA strategies and “lessons learned” through peer-to-peer interactions, meetings, workshops, conference presentations, case studies, and communications with CDC program consultants.

14. Take the Adaptation and Tailoring course provided by the STD/HIV Prevention Training Centers (PTC); follow the adaptation and tailoring guidance document, once it is developed by CDC, and collaborate with CDC behavioral and social scientists in developing adapted and tailored materials for the behavioral interventions.

15. Coordinate with local and state health departments prior to providing CBA services.

16. Attend all post-award training events.

17. Submit materials developed with funding through this program announcement to the CDC National Prevention Information Network (NPIN) for access by the public free of charge and dissemination by NPIN.

18. Check with the CDC NPIN to determine if suitable materials are already available. For further information on NPIN services and resources, contact NPIN at 1-800-458-5231; visit its website at www.cdcnpin.org; or send requests by fax to 1-888-282-7681 (TTY users: 1-800-243-7012).

In a cooperative agreement, CDC staff is substantially involved in the program activities, above and beyond routine grant monitoring.

CDC activities for this program are as follows:

1. Support all funded awardees by coordinating national networks of capacity building providers.

2. Provide consultation and TA in designing, planning, developing, operating, and evaluating activities (such as progress reporting, submitting information for the training calendar, etc.) based on CDC's standards and CDC program requirements. CDC may provide consultation and TA both directly from CDC and indirectly through prevention partners, such as health departments, national and regional minority partners, CBA partners, trainers, contractors, and other national organizations.

3. Monitor the performance of program and fiscal activities through progress reports, data reporting, site visits, conference calls, and ensuring compliance with federally mandated requirements, such as use of a materials review panel and internal audit procedures.

4. Add or refine performance indicators over the course of the project period. (For additional information on performance indicators, see Application and Submission Information thru NPIN.)

5. Provide up-to-date scientific information and training on the risk factors for transmitting HIV infection among persons living with HIV/AIDS; HIV prevention services for individual and partner counseling, HIV testing, and referral to care and treatment; and proven effective behavioral interventions for people at risk for transmitting HIV or becoming infected.

6. Provide up-to-date information and training on CDC's draft adaptation guidance developed by CDC with input from internal and external researchers, HIV prevention intervention implementers and community advocates.

7. Assist in the development of collaborative efforts with state and local health departments, HIV prevention community planning groups, CBOs that receive direct funding from CDC, and other federally supported organizations providing HIV/AIDS services.

8. Facilitate the exchange of information about successful interventions, program models, and “lessons learned” through grantee meetings, workshops, conferences, newsletters, the Internet, and communications with CDC project officers. CDC will also facilitate the exchange of program information and TA among community-based organizations, health departments, and national and regional organizations.

9. Ensure that any products developed with these funds reflect both cultural competence and sound evidence-based science. These products must first be reviewed and cleared by the original behavioral scientist(s) for the selected DEBI intervention(s) before submitting them to CDC for clearance.

10. Conduct an overall evaluation of the project.

11. Disseminate CBA Training Calendar of training activities.

II. Award Information

Type of Award: Cooperative Agreement. CDC involvement in this program is listed in the Activities Section above.

Fiscal Year Funds: 2005.

Approximate Total Funding: $2,876,000 (This amount is an estimate and is subject to availability of funds.).

Approximate Number of Awards: Six (6).

Approximate Average Award: $440,000 (This amount is for the first 12-month budget period and includes both direct and indirect costs.).

Floor of Award Range: $400,000.

Ceiling of Award Range: $500,000 (This ceiling is for the first 12-month budget period.).

Anticipated Award Date: August 1, 2005.

Budget Period Length: 12 months.

Project Period Length: Four (4) years.

Throughout the project period, CDC's commitment to the continuation of awards will be conditioned on the availability of funds, evidence of satisfactory progress by the recipient (as documented in required reports), and the determination that continued funding is in the best interest of the Federal Government.

III. Eligibility Information

III.1. Eligible Applicants

Applications may be submitted by public and private nonprofit organizations, such as:

• Public nonprofit organizations.

• Private nonprofit organizations.

• Universities.

• Colleges.

• Community-based organizations.

• Faith-based organizations.

• Federally recognized Indian tribal government.

• Indian tribal organizations.

III.2. Cost-Sharing or Matching

Matching funds are not required for this program.

III.3. Other

If you request a funding amount greater than the ceiling of the award range, your application will be considered non-responsive and will not be entered into the review process. You will be notified that your application did not meet the submission requirements.

Special Requirements: If your application is incomplete or non-responsive to the special requirements listed in this section, it will not be entered into the review process. You will be notified that your application did not meet submission requirements.

• Applicants must provide proof of eligibility as outlined in Section IV.2. of this announcement.

• All applicants will be required to provide CBA within the United States and its Territories.

• Late applications will be considered non-responsive. See section “IV.3. Submission Dates and Times” for more information on deadlines.

• Governmental, municipal agencies or affiliates of governmental or municipal agencies (e.g., health departments, school boards, public hospitals) are not eligible to apply.

• Organizations currently receiving more than one award for capacity building assistance from CDC's Capacity Building Branch are not eligible to apply.

• A minimum of two interventions or CDC-supported strategies, listed in the “Purpose” section, must be adapted and tailored for high-risk, racial/ethnic minority subpopulations of migrant workers, transgender individuals, or youth in non-school settings, including LGBTQ youth. For additional information about interventions and CDC-supported strategies, please visit: http://www.cdc.gov/hiv/partners/pa04064_cbo.htm and http://www.cdc.gov/hiv/pubs/hivcompendium/HIVcompendium.htm.

• Preference will be given to organizations that provide evidence of having previously adapted and tailored interventions listed under the “Purpose” section for migrant workers, transgender individuals, or youth in non-school settings, including LGBTQ youth.

• CDC may allocate additional funding to this program announcement to provide CBA as described in this announcement to reach organizations specifically targeting underserved Latino/a youth at risk for HIV and STDs (i.e., high-risk runaway Latino/a youth engaging in survival activities such as sex in exchange for drugs, money, shelter, or food).

Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity, use application form PHS 5161-1.

CDC strongly encourages you to submit your application electronically by utilizing the forms and instructions posted for this announcement at www.grants.gov.

Application forms and instructions are available on the CDC website, at the following Internet address: www.cdc.gov/od/pgo/forminfo.htm.

If you do not have access to the Internet, or if you have difficulty accessing the forms online, you may contact the CDC Procurement and Grants Office Technical Information Management Section (PGO-TIM) staff at: 770-488-2700. Application forms can be mailed to you.

To request an application kit (which includes the request for application, required forms, supplemental information, CBA Guidelines, and other information), contact CDC's National Prevention Information Network (NPIN) at 1-800-458-5231; visit its website at http://www.cdcnpin.org; or send requests by fax to 1-888-282-7681 (TTY users: 1-800-243-7012). This announcement and associated forms can also be found on the CDC Internet home page, http://www.cdc.gov. Click on Funding Opportunities then Grants and Cooperative Agreements.

IV.2. Content and Form of Submission

Application: You must submit a project narrative with your application forms. The narrative must be submitted in the following format:

• Maximum number of pages: 40 pages (excluding budget, appendices and attachments). If your narrative exceeds the page limit, only the first pages which are within the page limit will be reviewed.

• Font size: 12 point unreduced.

• All material must be typewritten; single-spaced.

• Paper size: 8.5 x 11 inches.

• Page margin size: One inch.

• Printed only on one side of page.

• Held together only by rubber bands or metal clips; not bound in any other way.

• Program announcement title and number must appear on each page of the application.

• Number each page sequentially, including appendices and attachments, and provide a complete table of contents to the application, its appendices and attachments.

Narrative. Your narrative should address activities to be conducted over the entire project period, and must include the following items in the order listed:

1. Abstract

Please provide a brief four-page summary of the proposed program activities, including the following information:

a. A description of the high-risk subpopulation of migrant workers, transgender individuals, or youth in non-school settings, including LGBTQ youth, for whom you propose to adapt and tailor interventions or CDC-supported strategies.

b. A description of all the science-based behavioral interventions or CDC-supported strategies you propose to adapt and tailor.

c. A description of your strategy that includes: (1) All interventions previously adapted; (2) the proposed overall marketing and diffusion plan; (3) the overall evaluation plan; and (4) the proposed plan to deliver CBA nationally.

d. A description of your organization's three-year record of experience providing CBA to consumers that serve a major racial/ethnic minority population listed above or of providing direct HIV prevention services to a major racial/ethnic minority population.

2. Program Plan

The program plan should include the following:

a. Proposed Plan

A description of your proposed plan for building capacity for adapting, tailoring and implementing interventions listed in the “Purpose” section of this announcement. In addition, include a description of the HIV prevention interventions you have previously adapted and tailored, including training and TA delivered. Include epidemiological evidence and other quantitative and qualitative data to support your proposed program plan.

b. Objectives

What are your proposed specific, measurable, appropriate, realistic and time-phased (SMART) objectives to address the awardee activities?

c. Activities

List and describe the proposed activities that relate to each of the objectives listed above.

d. Timeline

Provide a time line and list staff responsible for accomplishing and implementing activities in the first year.

3. Program Experience

a. Describe your organization's program experience as it relates to providing CBA nationally, including training and TA on adapting, tailoring, marketing and evaluating science-based behavioral HIV prevention interventions.

b. Describe the methods and recipients of CBA services previously provided by your organization.

c. Describe your organization's program experience collaborating with behavioral science researchers as well as other HIV prevention agencies, including state and local health departments.

d. Describe your organization's program experience in providing CBA that responds effectively to the cultural, gender, environmental, social, and linguistic characteristics of your proposed high-risk subpopulation of migrant workers, transgender individuals, or youth in non-school settings, including LGBTQ youth. In answering this question, describe the types of services provided and list any culturally, linguistically, and developmentally appropriate curricula and materials that your organization has adapted or developed.

4. Organizational Capacity

a. Indicate where the proposed program will be located within the organization (e.g., within the Office of the Executive Director, the Health Services Department, the HIV Prevention Section/Department, etc.).

b. Describe your fiscal management system and how it functions.

c. Describe your human resource management system and how it functions.

d. Describe your Management Information System (MIS), including functional role and software assets.

e. Summarize how the systems and assets described above will be used to support and manage the proposed program.

f. Provide the number of your full-time employees (FTEs) and describe their expertise related to social/behavioral science, curriculum development, training, marketing, and evaluation.

5. Evaluation Monitoring Plan

a. Provide baseline, one-year interim and four-year overall target performance goals based on the core performance indicators.

b. Describe the process and outcome data you will collect. Note: Data collected must relate to your objectives and the performance indicators.

c. Describe the methods for collecting, analyzing, interpreting, and reporting your process and outcome data.

d. Describe the plans for using your process and outcome data to improve the program.

6. Budget and Staffing Breakdown and Justification (Not Included in Narrative Page Limit)

a. Provide a detailed budget for each proposed activity. Justify all operating expenses in relation to the planned objectives and related activities. CDC may not approve or fund all proposed activities. Be precise about the justification for each budget item and itemize calculations wherever appropriate.

b. For each contract and consultant contained within the application budget, describe the type(s) of organizations or parties to be selected and the method of selection; identify the specific contractor(s), if known; and describe the expertise related to behavioral science, curriculum development, training, marketing, and evaluation. Describe services to be performed, and justify the use of a third party to perform these services; provide a breakdown of and justification for the estimated costs of the contractors and consultants; specify the period of performance; and describe the methods to be used for contract monitoring.

c. Provide a job description for each position, specifying job title, function, general duties, activities and expertise related to behavioral science, curriculum development, training, marketing, and evaluation. Also provide salary range or rate of pay, and the level of effort and percentage of time, to be spent on activities that would be funded through this cooperative agreement. If the identity of any key personnel who will fill a position is known, his/her name and resume should be included in the appendix section. Experience and training related to the proposed project should be noted. If the identity of staff is not known, describe your recruitment plan. If volunteers are involved in the project, provide their job descriptions and expertise related to behavioral science, curriculum development, training, marketing, and evaluation.

7. Proof of Eligibility

Applicants must complete the following section on proof of eligibility, including providing the following documents as appropriate. Include eligibility documentation as “Attachment A.”

Applications without the required documentation will be considered non-responsive.

• CBA developed under this program announcement will be delivered to CBA consumers serving one or more of the four major racial/ethnic populations as follows:

• Black/African American

• Hispanic/Latino

• Asian/Pacific Islander

• American Indian/Alaska Native

• Documentation that your organization has the specific charge from its executive board or governing body to operate nationally within the United States and its Territories. Documentation should include a copy of the statement from your organization's Articles of Incorporation, Bylaws, or Board Resolution.

• A copy of the current, valid Internal Revenue Service (IRS) determination letter of your organization's 501(c)3 tax-exempt status.

• Evidence that your organization has been in operation for three years as documented by annual agency reports, a board resolution, or other documentation.

• Evidence that your organization has a three-year record of experience, as documented by annual agency reports, a board resolution, or other documentation, in the following:

1. Providing CBA to CBOs and health departments on adapting, tailoring and implementing science-based behavioral HIV prevention interventions for high-risk, racial/ethnic minority subpopulations of migrant workers, transgender individuals, or youth in non-school settings including LGBTQ youth for which you are applying.

2. Providing CBA to CBOs and health departments that serve a major racial/ethnic minority population(s) listed above, or providing direct HIV prevention services to a major racial/ethnic minority population. In order to enhance program efficacy and facilitate learning, applicants must demonstrate cultural competence, including access to and credibility with the targeted populations mentioned above.

Additional information may be included in the application appendices. The appendices will not be counted toward the narrative page limit. This additional information includes curriculum vitaes, resumes, organizational charts, letters of support, etc.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC website at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: May 27, 2005.

Explanation of Deadlines: Applications must be received in the CDC Procurement and Grants Office by 4 p.m. Eastern Time on the deadline date.

You may submit your application electronically at www.grants.gov. Applications completed online through Grants.gov are considered formally submitted when the applicant organization's Authorizing Official electronically submits the application to www.grants.gov. Electronic applications will be considered as having met the deadline if the application has been submitted electronically by the applicant organization's Authorizing Official to Grants.gov on or before the deadline date and time.

If you submit your application electronically with Grants.gov, your application will be electronically time/date stamped, which will serve as receipt of submission. You will receive an e-mail notice of receipt when CDC receives the application.

If you submit your application by the United States Postal Service or commercial delivery service, you must ensure that the carrier will be able to guarantee delivery by the closing date and time. If CDC receives your submission after closing due to: (1) Carrier error, when the carrier accepted the package with a guarantee for delivery by the closing date and time, or (2) significant weather delays or natural disasters, you will be given the opportunity to submit documentation of the carrier's guarantee. If the documentation verifies a carrier problem, CDC will consider the submission as having been received by the deadline.

If you submit a hard copy application, CDC will not notify you upon receipt of your submission. If you have a question about the receipt of your application, first contact your courier. If you still have a question, contact the PGO-TIM staff at: 770-488-2700. Before calling, please wait two to three days after the submission deadline. This will allow time for submissions to be processed and logged.

This announcement is the definitive guide on application content, submission address, and deadline. It supersedes information provided in the application instructions. If your submission does not meet the deadline above, it will not be eligible for review, and will be discarded. You will be notified that you did not meet the submission requirements.

IV.4. Intergovernmental Review of Applications

Your application is subject to Intergovernmental Review of Federal Programs, as governed by Executive Order (EO) 12372. This order sets up a system for state and local governmental review of proposed federal assistance applications. You should contact your state single point of contact (SPOC) as early as possible to alert the SPOC to prospective applications and to receive instructions on your state's process. Click on the following link to get the current SPOC list: http://www.whitehouse.gov/omb/grants/spoc.html.

IV.5. Funding Restrictions

Restrictions, which must be taken into account while writing your budget, are as follows:

• Funds may not be used for research.

• Reimbursement of pre-award costs is not allowed.

• Funds available under this announcement must:

a. Support CBA that improves the capacity of the CBOs to implement, improve, and sustain programs that support the delivery of effective HIV prevention services for high-risk, racial/ethnic minority sub-populations.

b. Support CBA that gives priority to CBOs directly funded by CDC, followed by CBOs funded by state and local health departments.

c. Not supplant or duplicate existing funding.

d. Not be used to provide direct provision of health education and risk reduction and avoidance (HERR) services or patient care, including substance abuse treatment, medical treatment, or medications.

e. Not be used to support the cost of developing applications for other federal funds.

• Organizations receiving award must directly provide the majority of CBA services by their employed staff.

Note: All work provided by subcontractors is subject to approval and the applicant may not receive an award if proposed subcontractors are providing the majority of CBA services.

Funding estimates and project period may change based on the availability of funds, scope of work, and quality of the applications received, appropriateness and reasonableness of the budget justifications, and proposed use of project funds.

If you are requesting indirect costs in your budget, you must include a copy of your indirect cost rate agreement. If your indirect cost rate is a provisional rate, the agreement must be less than 12 months of age.

Guidance for completing your budget can be found on the CDC website, at the following Internet address: http://www.cdc.gov/od/pgo/funding/budgetguide.htm.

IV.6. Other Submission Requirements

Application Submission Address: CDC strongly encourages applicants to submit electronically at: www.grants.gov. You will be able to download a copy of the application package from www.grants.gov, complete it offline, and then upload and submit the application via the Grants.gov site. E-mail submission will not be accepted. If you are having technical difficulties in Grants.gov, they can be reached by e-mail at www.support@grants.gov or by phone at 1-800-518-4726 (1-800-GRANTS). The Customer Support Center is open from 7 a.m. to 9 p.m. Eastern Time, Monday through Friday.

CDC recommends that you submit your application to Grants.gov early enough to resolve any unanticipated difficulties prior to the deadline. You may also submit a back-up paper submission of your application. Any such paper submission must be received in accordance with the requirements for timely submission detailed in Section IV.3. of the grant announcement. The paper submission must be clearly marked: “BACK-UP FOR ELECTRONIC SUBMISSION.”

The paper submission must conform to all requirements for non-electronic submissions. If both electronic and back-up paper submissions are received by the deadline, the electronic version will be considered the official submission.

It is strongly recommended that you submit your grant application using Microsoft Office products (e.g., Microsoft Office, Microsoft Excel, etc.). If you do not have access to Microsoft Office products, you may submit a PDF file. Directions for creating PDF files can be found on the Grants.gov web site. Use of file formats other than Microsoft Office or PDF may result in your file being unreadable by our staff.

OR

Submit the original and two hard copies of your application by mail or express delivery service to: Technical Information Management—RFA# 05051, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Program Plan (40 Points)

a. Is the program based on high-prevalence epidemiological evidence and other concrete quantitative and qualitative data? (10 points)

b. Are the proposed program objectives specific, measurable, appropriate, realistic, and time-phased? (10 points)

c. What is the likelihood that the proposed program activities will accomplish the proposed program objectives? (10 points)

d. Is the timeline feasible? (10 points)

2. Program Experience (20 Points)

Is the applicant's program experience relevant to adapting and tailoring science-based behavioral HIV prevention interventions, curriculum development, training and TA, marketing, and evaluation for high-risk racial/ethnic minority subpopulations of migrant workers, transgender individuals, or youth in non-school settings including LGBTQ youth?

3. Organizational Capacity (20 Points)

Does the applicant demonstrate current organizational capacity to adapt, tailor, implement, and evaluate HIV interventions for high-risk racial/ethnic minority subpopulations of migrant workers, transgender individuals, or youth in non-school settings including LGBTQ youth?

4. Evaluation-Monitoring Plan (20 Points)

Is the evaluation-monitoring plan feasible and does it address the required performance indicators, process and outcome data collection, analysis, and reporting activities?

V.2. Review and Selection Process

Applications will be reviewed for completeness by the Procurement and Grants Office (PGO) staff, and for responsiveness by National Center for HIV, STD and TB Prevention (NCHSTP)/Division of HIV and AIDS Prevention (DHAP)/Capacity Building Branch (CBB). Incomplete applications and applications that are non-responsive to the eligibility criteria will not advance through the review process. Applicants will be notified that their application did not meet submission requirements.

A Special Emphasis Review Panel consisting of external experts will evaluate complete and responsive applications according to the criteria listed in the “V.1. Criteria” section above.

In addition, the following factors may affect the funding decision:

1. CDC's commitment to ensure overall funding for CBA services that serve each of the four major racial/ethnic minority populations.

2. CDC's commitment to ensure overall funding for CBA services, which is distributed in proportion to the HIV/AIDS disease burden among high-risk racial/ethnic minority sub-populations.

3. CDC's commitment to ensure that CBA funding will include different high-risk racial/ethnic minority subpopulations of migrant workers, transgender individuals, or youth in non-school settings including LGBTQ youth.

4. Preference will be given to organizations that provide evidence of having previously adapted and tailored interventions listed under the “Purpose” section for migrant workers, transgender individuals, or youth in non-school settings, including LGBTQ youth.

5. CDC may allocate additional funding to this program announcement to provide CBA as described in this announcement to reach organizations specifically targeting underserved Latino/a youth at risk for HIV and STDs (i.e., high-risk runaway Latino/a youth engaging in survival activities such as sex in exchange for drugs, money, shelter, or food).

CDC will provide justification for any decision to fund out of rank order.

V.3. Anticipated Announcement and Award Dates

Anticipated Award Date: August 1, 2005.

VI. Award Administration Information

VI.1. Award Notices

Successful applicants will receive a Notice of Award (NoA) from the CDC Procurement and Grants Office. The NoA shall be the only binding, authorizing document between the recipient and CDC. The NoA will be signed by an authorized Grants Management Officer and mailed to the recipient fiscal officer identified in the application.

Unsuccessful applicants will receive notification of the results of the application review by mail.

VI.2. Administrative and National Policy Requirements

45 CFR Parts 74 and 92

For more information on the Code of Federal Regulations, see the National Archives and Records Administration at the following Internet address: http://www.access.gpo.gov/nara/cfr/cfr-table-search.html.

The following additional requirements apply to this project:

• AR-4 HIV/AIDS Confidentiality Provisions

• AR-5 HIV Program Review Panel Requirements

• AR-7 Executive Order 12372 Review

• AR-8 Public Health System Reporting Requirements

• AR-9 Paperwork Reduction Act Requirements

• AR-10 Smoke-Free Workplace Requirements

• AR-11 Healthy People 2010

• AR-12 Lobbying Restrictions

• AR-14 Accounting System Requirements

• AR-15 Proof of Non-Profit Status

• AR-20 Conference Support

• AR-21 Small, Minority, and Women-Owned Business

• AR-23 States and Faith-Based Organizations

• AR-25 Release and Sharing of Data

Additional information on these requirements can be found on the CDC website at the following Internet address: http://www.cdc.gov/od/pgo/funding/ARs.htm.

An additional Certifications form from the PHS 5161-1 application needs to be included in your Grants.gov electronic submission only. Refer to http://www.cdc.gov/od/pgo/funding/PHS5161-1Certificates.pdf. Once the form is filled out, attach it to your Grants.gov submission as Other Attachment Forms.

VI.3. Reporting Requirements

You must provide CDC with an original plus two hard copies of the following reports:

1. First trimester progress report, due 30 days after the first four (4) months of the project period. The report must contain the following elements:

a. Current Budget Period Activities Objectives.

b. Current Budget Period Financial Progress.

c. New Budget Period Program Proposed Activity Objectives.

d. Budget.

e. Measures of effectiveness.

f. Additional requested information, including (1) data related to performance target goals; (2) data on progress toward achieving objectives; (3) an inventory of total individual capacity building assistance and proactive training for the reporting period; and (4) data related to the quality assurance system.

2. Second trimester interim progress report shall be due 30 days after the completion of the first eight (8) months of the project period. This second trimester progress report will serve as your non-competing continuation application for the next funding cycle. (See Continuing Application Requirements provided by Procurement and Grants Office.) This report must include elements a-f, as listed in the first trimester report, and be completed during this time period (months 5-8). The report should also include the following:

a. Base line and actual level of core performance indicators.

b. Specific guidance, which will be provided by the CDC three months prior to the due date.

3. The third trimester progress report shall be due 30 days after the end of the budget period. This report must include elements a-f as listed in the first trimester report, elements a-b as listed in the second trimester report, and completed during this time period (months 9-12).

4. Financial status report is due no more than 90 days after the end of the budget period.

5. Final financial and performance reports are due no more than 90 days after the end of the project period.

These reports must be mailed to the Grants Management or Contract Specialist listed in the “Agency Contacts” section of this announcement.

VII. Agency Contacts

We encourage inquiries concerning this announcement.

For Pre-application Technical Consultation: Send questions regarding this application to DHAPCBAPT@CDC.GOV. You will receive a response within 24-48 hours.

For general questions, contact: Technical Information Management Section, CDC Procurement and Grants Office, 2920 Brandywine Road, Atlanta, GA 30341. Telephone: 770-488-2700.

For program technical assistance, contact: Gerlinda Gallegos Somerville, Public Health Analyst, Centers for Disease Control and Prevention, National Center for HIV, STD, and TB Prevention, Division of HIV/AIDS Prevention, Capacity Building Branch, 1600 Clifton Road, Mailstop E-40, Atlanta, GA 30333, Telephone: 404-639-2918. E-mail address: DHAPCBAPT@CDC.GOV.

For financial, grants management, or budget assistance, contact: Roslyn Curington, Grants Management Specialist, Centers for Disease Control and Prevention, Procurement and Grants Office, 2920 Brandywine Road, Room 3000, Atlanta, Georgia 30341-4146. Telephone: 770-488-2767, E-mail address: zlp8@cdc.gov.

VIII. Other Information

This and other CDC funding opportunity announcements can be found on the CDC Web site, Internet address: www.cdc.gov. Click on “Funding” then “Grants and Cooperative Agreements.”

Dated: April 6, 2005.
William P. Nichols,
Director, Procurement and Grants Office, Centers for Disease Control and Prevention.

[FR Doc. 05-7286 Filed 4-11-05; 8:45 am]

BILLING CODE 4163-18-P